DEPARTMENT OF ENERGY

Federal Energy Regulatory Commission

Georgia Power Company; Project No. 485-063—Georgia and Alabama, Bartletts Ferry Hydroelectric Project; Notice of Proposed Restricted Service List for a Programmatic Agreement

Rule 2010 of the Federal Energy Regulatory Commission's (Commission) Rules of Practice and Procedure, 18 CFR 385.2010, provides that, to eliminate unnecessary expense or improve administrative efficiency, the Secretary may establish a restricted service list for a particular phase or issue in a proceeding. The restricted service list should contain the names of persons on the service list who, in the judgment of the decisional authority establishing the list, are active participants with respect to the phase or issue in the proceeding for which the list is established.

The Commission staff is consulting with the Georgia State Historic Preservation Officer (SHPO), the Alabama SHPO, and the Advisory Council on Historic Preservation (Advisory Council) pursuant to the Advisory Council's regulations, 36 CFR Part 800, implementing section 106 of the National Historic Preservation Act, as amended (16 U.S.C. 470 f), to prepare a Programmatic Agreement for managing properties included in, or eligible for inclusion in, the National Register of Historic Places at the existing Bartletts Ferry Hydroelectric Project.

The Programmatic Agreement, when executed by the Commission, the Georgia SHPO, the Alabama SHPO, and the Advisory Council, would satisfy the Commission's section 106 responsibilities for all individual undertakings carried out in accordance with the license until the license expires or is terminated (36 CFR 800.13[e]). The Commission's responsibilities pursuant to section 106 for the project would be fulfilled through the Programmatic Agreement, which the Commission staff proposes to draft in consultation with certain parties listed below.

Georgia Power Company, as licensee for Project No. 485-063, is invited to participate in consultations to develop the Programmatic Agreement and to sign as a concurring party to the Programmatic Agreement. For purposes of commenting on the Programmatic Agreement, we propose to restrict the service list for Project No. 485-063 as follows:

John Fowler, Executive Director, The Old Post Office Building, Suite 803, 1100 Pennsylvania Avenue, NW., Washington, DC 20004 | Advisory Council on Historic Preservation, Georgia Power Company, 241 Ralph McGill Boulevard, NE., Bin 10221, Atlanta, GA 30308.
Elizabeth Ann Brown, Deputy SHPO, Alabama Historical Commission, 468 South Perry Street, Montgomery, AL 36130-0900 | Joey Charles, Georgia Power Company, 241 Ralph McGill Boulevard, NE., Bin 10151, Atlanta, GA 30308.
Amanda Hill or Representative, Alabama Historical Commission, 468 South Perry Street, Montgomery, AL 36130-0900 | Henry Harjo, Kialegee Tribal Town, P.O. Box 332, Wetumka, OK 74883.
Dr. David Crass, Director, Georgia Historic Preservation Division, 254 Washington Street, SW., Ground Level, Atlanta, GA 30334 | Bryant Celestine, THPO, Alabama-Coushatta Tribe of Texas, 571 State Park Road 56, Livingston, TX 77351.
Elizabeth Shirk or Representative, Georgia Historic Preservation Division, 254 Washington Street, SW., Ground Level, Atlanta, GA 30334 | Hallie M. Meushaw, Troutman Sanders LLP, Bank of America Plaza, 600 Peachtree Street, NE., Suite 5200, Atlanta, GA 30308-2216.
Ted Isham, George A. Martin, Emman Spain, Muscogee (Creek) Nation, P.O. Box 580, Okmulgee, OK 74447

Any person on the official service list for the above-captioned proceeding may request inclusion on the restricted service list, or may request that a restricted service list not be established, by filing a motion to that effect within 15 days of this notice date. An original plus seven copies of any such motion must be filed with the Secretary of the Commission (888 First Street, NE., Washington, DC 20426) and must be served on each person whose name appears on the official service list. If no such motions are filed, the restricted service list will be effective at the end of the 15 day period. Otherwise, a further notice will be issued ruling on the motion.

Dated: April 28, 2011.
Kimberly D. Bose,
Secretary.

[FR Doc. 2011-10839 Filed 5-3-11; 8:45 am]

BILLING CODE 6717-01-P